DEPARTMENT OF THE INTERIOR

National Park Service

Notice of Inventory Completion: U.S. Department of the Interior, National Park Service, Great Sand Dunes National Park and Preserve, Mosca, CO

AGENCY: National Park Service, Interior.

ACTION: Notice.

Notice is here given in accordance with the Native American Graves Protection and Repatriation Act (NAGPRA), 25 U.S.C. 3003, of the completion of an inventory of human remains in the possession and control of the U.S. Department of the Interior, National Park Service, Great Sand Dunes National Park and Preserve, Mosca, CO. The human remains were removed from an unspecified site in Alamosa County, CO.

This notice is published as part of the National Park Service's administrative responsibilities under NAGPRA, 25 U.S.C. 3003 (d)(3). The determinations in this notice are the sole responsibility of the superintendent, Great Sand Dunes National Park and Preserve.

A detailed assessment of the human remains was made by Great Sand Dunes National Park and Preserve professional staff in consultation with representatives of the Jicarilla Apache Nation, New Mexico; Navajo Nation, Arizona, New Mexico & Utah; Ohkay Owingeh, New Mexico (formerly the Pueblo of San Juan); Pueblo of San Ildefonso, New Mexico; Southern Ute Indian Tribe of the Southern Ute Reservation, Colorado; Ute Indian Tribe of the Uintah & Ouray Reservation, Utah; Ute Mountain Tribe of the Ute Mountain Reservation, Colorado, New Mexico & Utah; and Zuni Tribe of the Zuni Reservation, New Mexico. The Pueblo of Acoma, New Mexico; Pueblo of Cochiti, New Mexico; Pueblo of Picuris, New Mexico; Pueblo of Santa Clara, New Mexico; and Pueblo of Taos, New Mexico were contacted for consultation purposes but did not attend the consultation meetings.

Between 1966 and 1968, human remains representing a minimum of three individuals were removed by George Owen Doty, a local resident, from an unspecified site south of Great Sand Dunes National Park and Preserve in Alamosa County, CO. After Doty's death in the 1980s, the human remains were found among his effects by his niece and were turned over to Great Sand Dunes National Park and Preserve in 2002. No known individuals were identified. No associated funerary objects are present.

A nondestructive osteological analysis by forensic anthropologists in Fort Collins, CO, and the fact that Doty had been an avid collector of American Indian artifacts indicate that the human remains are likely prehistoric Native American.

Officials of Great Sand Dunes National Park and Preserve have determined that, pursuant to 25 U.S.C. 3001 (9-10), the human remains described above represent the physical remains of three individuals of Native American ancestry. Lastly, officials of Great Sand Dunes National Park and Preserve have determined that, pursuant to 25 U.S.C. 3001 (2), a relationship of shared group identity cannot reasonably be traced between the Native American human remains and any present-day Indian tribe.

The Native American Graves Protection and Repatriation Review Committee (Review Committee) is responsible for recommending specific actions for disposition of culturally unidentifiable human remains. In February 2009, Great Sand Dunes National Park and Preserve requested that the Review Committee recommend disposition of the three culturally unidentifiable human remains to the Ute Mountain Tribe of the Ute Mountain Reservation, Colorado, New Mexico & Utah because the human remains were found within the tribe's aboriginal and historical territory. The Review Committee considered the proposal at its May 23-24, 2009, meeting and recommended disposition of the human remains to the Ute Mountain Tribe of the Ute Mountain Reservation, Colorado, New Mexico & Utah.

A September 16, 2009, letter from the Designated Federal Official, writing on behalf of the Secretary of the Interior, transmitted the authorization for the park to effect disposition of the physical remains of the culturally unidentifiable individuals to the Ute Mountain Tribe of the Ute Mountain Reservation, Colorado, New Mexico & Utah contingent on the publication of a Notice of Inventory Completion in the Federal Register. This notice fulfills that requirement.

Representatives of any other Indian tribe that believes itself to be culturally affiliated with the human remains should contact Art Hutchinson, superintendent, Great Sand Dunes National Park and Preserve, 11500 Highway 150, Mosca, CO 81146, telephone (719) 378-6311, before April 12, 2010. Disposition of the human remains to the Ute Mountain Tribe of the Ute Mountain Reservation, Colorado, New Mexico & Utah may proceed after that date if no additional claimants come forward.

Great Sand Dunes National Park and Preserve is responsible for notifying the Jicarilla Apache Nation, New Mexico; Navajo Nation, Arizona, New Mexico & Utah; Ohkay Owingeh, New Mexico (formerly the Pueblo of San Juan); Pueblo of Acoma, New Mexico; Pueblo of Cochiti, New Mexico; Pueblo of Picuris, New Mexico; Pueblo of San Ildefonso, New Mexico; Pueblo of Santa Clara, New Mexico; Pueblo of Taos, New Mexico; Southern Ute Indian Tribe of the Southern Ute Reservation, Colorado; Ute Indian Tribe of the Uintah & Ouray Reservation, Utah; Ute Mountain Tribe of the Ute Mountain Reservation, Colorado, New Mexico & Utah; and Zuni Tribe of the Zuni Reservation, New Mexico that this notice has been published.

Dated: February 18, 2010
Sherry Hutt,
Manager, National NAGPRA Program.

[FR Doc. 2010-5169 Filed 3-10-10; 8:45 am]

BILLING CODE 4312-50-S